DEPARTMENT OF TRANSPORTATION

Federal Aviation Administration

Eighteenth Meeting: RTCA Special Committee 205/EUROCAE WG-71: Software Considerations in Aeronautical Systems

AGENCY: Federal Aviation Administration (FAA), U.S. Department of Transportation (DOT).

ACTION: Notice of RTCA Special Committee 205/EUROCAE WG-71 meeting: Software Considerations in Aeronautical Systems.

SUMMARY: The FAA is issuing this notice to advise the public of a meeting of RTCA Special Committee 205/EUROCAE WG-71: Software Considerations in Aeronautical Systems Agenda for the 18th meeting.

DATES: The meeting will be held November 15-18, 2011, from 8:30 a.m. to 5 p.m.

ADDRESSES: The meeting will be held at Embry-Riddle Aeronautical University Instructional Center Auditorium, Clyde Morris Boulevard, Daytona Beach, FL 32218.

FOR FURTHER INFORMATION CONTACT: The RTCA Secretariat, 1150 18th Street, NW., Suite 910, Washington, DC 20036, or by telephone at (202) 833-9339, fax at (202) 833-9434, or Web site at http://www.rtca.org.

SUPPLEMENTARY INFORMATION: Pursuant to section 10(a)(2) of the Federal Advisory Committee Act (Pub. L. 92-463, 5 U.S.C., App.), notice is hereby given for a Special Committee 205/EUROCAE WG-71, Software Considerations in Aeronautical Systems. The agenda will include the following:

Agenda

November 15, 2011

• Open Plenary Session

• Chairman's Introductory Remarks

• Facilities Review

• Recognition of the FAA and EASA Representatives

• Review of Meeting Agenda

• Review and Approval of Seventeenth Meeting Minutes

• Road Map to Completion

• Embry-Riddle Aeronautical University (Host Presentation)

• Presentation of FRAC/OC Changes and Approval

• IP60/IP61-12B/DO-178B (Object Oriented and RT), Post FRAC Changes

• IP58/IP59 (Model Based): Post FRAC Changes

• Lunch

• Presentation of FRAC/OC Changes and Approval

• IP58/IP59 (Model Based): Post FRAC Changes

• P52/IP53 (Clarifications): Post FRAC Changes

• Break-out Sessions

• IP52—Clarifications

• IP60—Object Oriented

• IP58—Model Based

• Others as Required

November 16, 2011

• Break-out Sessions

• IP52—Clarifications

• IP60—Object Oriented

• IP58—Model Based

• Others as required

• Presentation of any Further Corrections and Approval

• IP52, 58 or 60

• Lunch

• Presentation of any Further Corrections and Approval

• IP52, 58 or 60

• Break-out Sessions

• IP52—Clarifications

• IP60—Object Oriented

• IP58—Model Based

• Others as required

November 17, 2011

• Break-out Sessions (as required to work comments)

• IP58\8—Model based Design

• IP60—Object Oriented

• IP52/IP53—FAQs et al.

• Presentations of any further Corrections and Approval

• IP52—Model based Design

• IP58—Object Oriented

• IP60—FAQs et al.

• Lunch

• Presentations of any further Corrections and Approval

• IP52—Model based Design

• IP58—Object Oriented

• IP60—FAQs et al.

• Break-out Sessions

• IP52—Clarifications

• IP58—Object Oriented

• IP60—Model Based

• Others as Required

November 18, 2011

• Presentations of any further Corrections and Approval

• IP52, 58 or 60

• Summary of results of Voting Sessions

• Closing Remarks

• Adjourn

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on October 20, 2011.
Robert L. Bostiga,
Manager, RTCA Advisory Committee.

[FR Doc. 2011-27708 Filed 10-25-11; 8:45 am]

BILLING CODE 4910-13-P